DEPARTMENT OF ENERGY

Federal Energy Regulatory Commission

Combined Notice of Filings #1

Take notice that the Commission received the following electric corporate filings:

Docket Numbers: EC15-170-000.

Applicants: Evergreen Wind Power II, LLC.

Description: Application for Authorization Under Section 203 of the Federal Power Act and Request for Waivers, Confidential Treatment, Expedited Action and Shortened Comment Period of Evergreen Wind Power II, LLC.

Filed Date: 7/16/15.

Accession Number: 20150716-5257.

Comments Due: 5 p.m. ET 8/6/15.

Docket Numbers: EC15-171-000.

Applicants: Wisconsin River Power Company.

Description: Application for Approval of Transaction Under Section 203(a)(1)(B) of the Federal Power Act and Request For An Order Within 30 Days of Wisconsin River Power Company.

Filed Date: 7/17/15.

Accession Number: 20150717-5219.

Comments Due: 5 p.m. ET 8/7/15.

Docket Numbers: EC15-172-000.

Applicants: SEIF/Co-Invest Generation Holdings, LLC, Burgess Biopower, LLC.

Description: Application of SEIF/Co-Invest Generation Holdings, LLC, et. al. for Authorization under Section 203 of the Federal Power Act for Disposition of Jurisdictional Facilities and Requests for Expedited Consideration and Confidential Treatment.

Filed Date: 7/20/15.

Accession Number: 20150720-5130.

Comments Due: 5 p.m. ET 8/10/15.

Take notice that the Commission received the following electric rate filings:

Docket Numbers: ER15-519-001.

Applicants: ISO New England Inc.

Description: Compliance filing: Order No. 676-H Compliance Filing to be effective 5/15/2015.

Filed Date: 7/20/15.

Accession Number: 20150720-5113.

Comments Due: 5 p.m. ET 8/10/15.

Docket Numbers: ER15-531-001.

Applicants: California Independent System Operator Corporation.

Description: Compliance filing: 2015_7_17_Order676HCompliance to be effective 5/15/2015.

Filed Date: 7/17/15.

Accession Number: 20150717-5175.

Comments Due: 5 p.m. ET 8/7/15.

Docket Numbers: ER15-696-001.

Applicants: PJM Interconnection, L.L.C.

Description: Compliance filing: Compliance Filing per 6/18/15 Order in Docket No. ER15-696-000 to be effective 6/18/2015.

Filed Date: 7/20/15.

Accession Number: 20150720-5134.

Comments Due: 5 p.m. ET 8/10/15.

Docket Numbers: ER15-1985-000; ER15-1986-000; ER15-1987-000; ER15-1988-000; ER15-1989-000; ER15-1990-000; ER15-1991-000; ER15-1992-000; ER15-1993-000; ER15-1994-000; ER15-1995-000; ER15-1996-000; ER15-2029-000; ER15-2030-000; ER15-2031-000; ER15-1997-000; ER15-2032-000; ER15-1998-000; ER15-1999-000; ER15-2000-000; ER15-2001-000; ER15-2002-000; ER15-2003-000; ER15-2007-000; ER15-2004-000; ER15-2005-000; ER15-2006-000.

Applicants: AV Solar Ranch 1, LLC, Baltimore Gas and Electric Company, Beebe Renewable Energy, LLC, Calvert Cliffs Nuclear Power Plant, LLC, CER Generation, LLC, Commonwealth Edison Company, Constellation Mystic Power, LLC, Constellation Power Source Generation, LLC, Cow Branch Wind Power, LLC, CR Clearing, LLC, Criterion Power Partners, LLC, Exelon Framingham, LLC, Exelon New Boston, LLC, Exelon West Medway, LLC, Exelon Wind 4, LLC, Exelon Wyman, LLC, Handsome Lake Energy, LLC, Harvest II Windfarm, LLC, Harvest WindFarm, LLC, Michigan Wind 1, LLC, Michigan Wind 2, LLC, Nine Mile Point Nuclear Station, LLC, PECO Energy Company, R.E. Ginna Nuclear Power Plant, LLC, Shooting Star Wind Project, LLC, Wildcat Wind, LLC, Wind Capital Holdings, LLC.

Description: Supplement to June 26, 2015 AV Solar Ranch 1, LLC, et. al. tariff filings.

Filed Date: 7/17/15.

Accession Number: 20150717-5222.

Comments Due: 5 p.m. ET 7/31/15.

Docket Numbers: ER15-2224-000.

Applicants: Solar Star Colorado III, LLC.

Description: Baseline eTariff Filing: Solar Star Colorado III, LLC Market-Based Rate Tariff to be effective 8/1/2015.

Filed Date: 7/17/15.

Accession Number: 20150717-5176.

Comments Due: 5 p.m. ET 8/7/15.

Docket Numbers: ER15-2225-000.

Applicants: Erie Power LLC.

Description: Request of Erie Power LLC for Limited Tariff Waiver and Motion for Expedited Action and Supporting Affidavit of John Marczewski.

Filed Date: 7/16/15.

Accession Number: 20150716-5259.

Comments Due: 5 p.m. ET 7/30/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 20, 2015.
Nathaniel J. Davis, Sr.,
Deputy Secretary.

[FR Doc. 2015-18489 Filed 7-27-15; 8:45 am]

BILLING CODE 6717-01-P